DEPARTMENT OF TRANSPORTATION

Federal Aviation Administration

14 CFR Part 71

[Airspace Docket No. 99-ACE-47]

Amendment to Class E Airspace; Fredericktown, MO; Correction

AGENCY: Federal Aviation Administration, DOT.

ACTION: Direct final rule; confirmation of effective date and correction.

SUMMARY: This document confirms the effective date of a direct final rule which revises the Class E airspace at Fredericktown, MO, and corrects an error in the coordinates for the Fredericktown Regional Airport, Airport Reference Point (ARP) and the Farmington, MO, VHF Omnidirectional Range/Technical Air Navigation (VORTAC) as published in the Federal Register December 29, 1999 (64 FR 72924), Airspace Docket No. 99-ACE-47.

DATES: The direct final rule published at 64 FR 72924 is effective on 0901 UTC, April 20, 2000.

This correction is effective on April 20, 2000.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION:

History

On December 29, 1999, the FAA published in the Federal Register a direct final rule; request for comments which revises the Class E airspace at Fredericktown, MO (FR document 99-33795, 64 FR 72924, Airspace Docket No. 99-ACE-47). An error was subsequently discovered in the coordinates for the Fredericktown Regional Airport ARP and the Farmington, MO, VORTAC. This action corrects those errors. After careful review of all available information related to the subject presented above, the FAA has determined that air safety and the public interest require adoption of the rule. The FAA has determined that this correction will not change the meaning of the action nor add any additional burden on the public beyond that already published. This action corrects the error in the coordinates of the Fredericktown Regional Airport ARP and Farmington VORTAC and confirms the effective date to the direct final rule.

The FAA uses the direct final rulemaking procedure for a non-controversial rule where the FAA believes that there will be no adverse public comment. This direct final rule advised the public that no adverse comments were anticipated, and that unless a written adverse comment, or a written notice of intent to submit such an adverse comment, were received within the comment period, the regulation would become effective on April 20, 2000. No adverse comments were received, and thus this notice confirms that this direct final rule will become effective on that date.

Correction to the Direct Final Rule

Accordingly, pursuant to the authority delegated to me, coordinates for the Fredericktown Regional Airport ARP and the Farmington VORTAC as published in the Federal Register on December 29, 1999 (64 FR 72924), (Federal Register Document 99-33795; page 72925, column one) are corrected as follows:

§ 71.1 [Corrected]

ACE MO E5 Fredericktown, MO [Corrected]

On page 72925, in the first column, after Fredericktown Regional Airport, MO, correct the coordinates by removing (lat. 37°36′20″ N., long. 90°17′14″ W.) and substituting (lat. 37°36′21″ N., long. 90°17′14″ W.)

On page 72925, in the first column, after Farmington VORTAC correct the coordinates by removing (lat. 37°40′25″ N., long. 90°14′02″ W.) and substituting (lat. 37°40′24″ N., long. 90°14′03″ W.)

Issued in Kansas City, MO on February 15, 2000.
Herman J. Lyons, Jr.,
Manager, Air Traffic Division, Central Region.

[FR Doc. 00-4748 Filed 2-28-00; 8:45 am]

BILLING CODE 4910-13-M